COMMISSION ON CIVIL RIGHTS

Sunshine Act Notice

AGENCY: United States Commission on Civil Rights.

ACTION: Notice of meeting.

Date and Time: Friday, May 14, 2010; 11 a.m. EDT.

Place: 624 9th St., NW., Room 540, Washington, DC 20425.

Meeting Agenda

This meeting is open to the public, except where noted otherwise.

I. Approval of Agenda

II. Announcements

III. Program Planning

• Approval of Briefing Report on Health Care Disparities

• Approval of Findings & Recommendations on Educational Effectiveness of Historically Black Colleges & Universities Briefing Report

• Approval of 2011 Business Meeting Calendar

• Update on Status of Title IX Project—Some of the discussion of this agenda item may be held in closed session.

IV. State Advisory Committee Issues

• Colorado SAC

• Ohio SAC

• South Carolina SAC

• Consideration of Additional Nominee to the New Jersey SAC

V. Staff Director's Report

VI. Adjourn

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: May 4, 2010.
David Blackwood,
General Counsel.

[FR Doc. 2010-10891 Filed 5-4-10; 4:15 pm]

BILLING CODE 6335-01-P